DEPARTMENT OF COMMERCE

National Oceanic and Atmospheric Administration

RIN 0648-XC054

Endangered and Threatened Species; Take of Anadromous Fish

AGENCY: National Marine Fisheries Service (NMFS), National Oceanic and Atmospheric Administration (NOAA), Commerce.

ACTION: Application for new scientific research permit.

SUMMARY: Notice is hereby given that NMFS has received a scientific research permit application request relating to salmonids listed under the Endangered Species Act (ESA). The proposed research is intended to increase knowledge of the species and to help guide management and conservation efforts. The application and related documents may be viewed online at: https://apps.nmfs.noaa.gov/preview/preview_open_for_comment.cfm. These documents are also available upon written request or by appointment by contacting NMFS by phone (707) 575-6097 or fax (707) 578-3435).

DATES: Written comments on the permit application must be received at the appropriate address or fax number (see ADDRESSES) no later than 5 p.m. Pacific standard time on July 9, 2012.

ADDRESSES: Written comments on this application should be submitted to the Protected Resources Division, NMFS, 777 Sonoma Avenue, Room 325, Santa Rosa, CA 95404. Comments may also be submitted via fax to (707) 578-3435 or by email to FRNpermits.SR@noaa.gov.

FOR FURTHER INFORMATION CONTACT: Jeffrey Jahn, Santa Rosa, CA (ph.: 707-575-6097, email: Jeffrey.Jahn@noaa.gov). Permit application instructions are available from the address above, or online at apps.nmfs.noaa.gov.

SUPPLEMENTARY INFORMATION:

Species Covered in This Notice

This notice is relevant to federally threatened California Coastal (CC) Chinook salmon (Oncorhynchus tshawytscha), endangered Central California Coast (CCC) Coho salmon (O. kisutch), threatened Southern Oregon/Northern California Coast (SONCC) Coho salmon (O. kisutch), threatened Northern California (NC) steelhead (O. mykiss), and threatened CCC steelhead (O. mykiss).

Authority

Scientific research permits are issued in accordance with section 10(a)(1)(A) of the ESA of 1973 (16 U.S.C. 1531-1543) and regulations governing listed fish and wildlife permits (50 CFR parts 222-226). NMFS issues permits based on findings that such permits: (1) Are applied for in good faith; (2) if granted and exercised, would not operate to the disadvantage of the listed species which are the subject of the permits; and (3) are consistent with the purposes and policies set forth in section 2 of the ESA. The authority to take listed species is subject to conditions set forth in the permits.

Anyone requesting a hearing on the application listed in this notice should set out the specific reasons why a hearing on the application would be appropriate (see ADDRESSES). Such hearings are held at the discretion of the Assistant Administrator for Fisheries, NMFS.

Application Received

Permit 14513

Dr. Stephanie Carlson, University of California at Berkeley, is requesting a 5-year permit to take adult, smolt and juvenile CC Chinook salmon, CCC coho salmon, SONCC coho salmon, NC steelhead, and CCC steelhead (ESA-listed salmonids) associated with four research projects in three watersheds in California. In the four studies described below, researchers do not expect to kill any listed fish, but a small number may die as an unintended result of the research activities. However, a low number of moribund CCC steelhead may be collected for analysis as part of Project 3, in Pescadero Lagoon. A notice of receipt for application 14513 was published in the Federal Register on December 8, 2010 (75 FR 76400). No comments were received for this application, however due to substantial changes to the sampling locations and the amount taken NMFS decided to publish the revised notice for public comment.

Project 1 is a study on the summer ecology of juvenile salmonids in streams of the Lagunitas Creek (Marin County), Pescadero Creek (San Mateo County), and the South Fork Eel River (Mendocino County) watersheds. The study will examine the variation in growth and survival of juvenile CCC coho salmon, SONCC coho salmon, CCC steelhead and NC steelhead rearing in streams that experience elevated water temperatures and low stream flow volumes in summer. Annually, Dr. Carlson proposes to capture (backpack electrofisher, seine, dip-net), handle (identify, measure and weigh), mark (fin-clip, passive integrated transponder (PIT) tag or elastomer tag), sample (gastric lavage, scale collection), and release juvenile fish. A small number of adults may be captured (backpack electrofisher, seine), handled (identify, measure, weigh), and released. Supplemental surveys will be accomplished by snorkeling. Movements of PIT-tagged fish will be monitored throughout the summer using hand held and stationary PIT-tag readers. In September and October, the study areas will be re-sampled using the same methods as described above. Fish will be scanned for PIT-tags and those recaptured will be re-weighed and measured to determine growth rates. Throughout winter, fish will be monitored for their movements using hand held and stationary PIT-tag readers. Data gathered from this study will provide information on fish growth and survival rates and how these relate to abiotic and biotic variables within the watersheds.

Project 2 is a biotelemetry study of smolt migrations in the Lagunitas Creek and Pescadero Creek watersheds. In the Lagunitas Creek watershed, CCC coho salmon and CCC steelhead smolts will be captured in down migrant traps operated by permitted researchers (the National Park Service and the Marin Municipal Water District). In the Pescadero Creek Watershed, Dr. Carlson proposes to utilize CCC steelhead smolts captured (trap) by other researchers (permits pending); however if trapping is not conducted by others, Dr. Carlson will utilize CCC steelhead smolts captured (seine) associated with Study 3. In both study areas, Dr. Carlson proposes to anesthetize a subset of captured fish and implant acoustic tags in order to determine salmonid residence time and movements throughout the two estuary environments. Captured fish will be measured, tissue sampled (fin-clip), and scale sampled. Strategically placed acoustic receivers will track the movements of the tagged salmonids in each system. Data collected from tagged fish in these systems will be used to determine differences in survival between permanently-open versus seasonally-closed estuaries and the significance of estuary rearing on the timing of ocean entry.

Project 3 is a study on the ecology of juvenile salmonids in Tomales Bay, Pescadero Lagoon, and the Eel River estuary and their overall dependence on estuarine resources based on an analysis of diet and fish growth. In the three estuaries, Dr. Carlson proposes to capture (hook-and-line, seine, fyke net, dip net), handle (identify, measure, weigh), sample (fin-clip, scale collection, gastric lavage), and release ESA-listed salmonid juveniles and smolts. In Pescadero Lagoon, a subset of CCC steelhead smolts will be implanted with PIT tags. A small number of adults will be captured, handled (identified, measured), sampled (scale collection) and released. The data gathered from this project, in addition to Project 2, will provide information on the ecology of juvenile salmonids in estuarine environments, their feeding habits, and how they differ between systems with permanently-open (Tomales Bay, Eel River estuary) versus seasonally-closed (Pescadero Creek lagoon) estuaries/lagoons.

Project 4 examines smolt production in the Lagunitas Creek, Pescadero Creek, and Eel River watersheds by analyzing collected scales, otoliths, fins, and/or other tissues to determine where smolts that survived to breed as adults reared as juveniles. The samples will be obtained from ESA-listed salmonid carcasses encountered during annual spawner surveys. The results of this project could provide important information on the habitat attributes associated with high productivity areas and could help identify areas of poor productivity that might be candidate sites for habitat restoration.

This notice is provided pursuant to section 10(c) of the ESA. NMFS will evaluate the application, associated documents, and comments submitted to determine whether the application meets the requirements of section 10(a) of the ESA and Federal regulations. The final permit decision will not be made until after the end of the 30-day comment period. NMFS will publish notice of its final action in the Federal Register.

Dated: June 4, 2012.
Angela Somma,
Chief, Endangered Species Division, Office of Protected Resources, National Marine Fisheries Service.

[FR Doc. 2012-13854 Filed 6-6-12; 8:45 am]

BILLING CODE 3510-22-P